ENVIRONMENTAL PROTECTION AGENCY

[FRL-7962-1]

Proposed CERCLA Administrative Cost Recovery Settlement; The Vega Alta Public Supply Wells Superfund Site, Vega Alta, PR

AGENCY: Environmental Protection Agency.

ACTION: Notice; request for public comment.

SUMMARY: In accordance with Section 122(h) of the Comprehensive Environmental Response, Compensation, and Liability Act as amended (“CERCLA”), 42 U.S.C. 9622(h), notice is hereby given of a proposed administrative settlement for recovery of past response costs concerning the Vega Alta Public Supply Wells Superfund Site located in Vega Alta, Puerto Rico with the settling parties, Caribe General Electric Products, Inc. and Unisys Corporation. The settlement requires the settling parties to pay $858,433.41, plus an additional sum for Interest on that amount calculated from January 28, 2004 through the date of payment to the Vega Alta Public Supply Wells Superfund Site Special Account within the EPA Hazardous Substance Superfund in reimbursement of EPA's past response costs incurred with respect to the Site. The settlement includes a covenant not to sue the settling party pursuant to Section 107(a) of CERCLA, 42 U.S.C. 9607(a) for past response costs. For thirty (30) days following the date of publication of this notice, the Agency will receive written comments relating to the settlement. The Agency will consider all comments received and may modify or withdraw its consent to the settlement if comments received disclose facts or considerations which indicate that the settlement is inappropriate, improper, or inadequate.

DATES: Comments must be submitted on or before September 28, 2005.

ADDRESSES: The proposed settlement is available for public inspection at USEPA, 290 Broadway, 17th Floor, New York, New York 10007-1866. A copy of the proposed settlement may be obtained from Marla E. Wieder, Assistant Regional Counsel, USEPA, 290 Broadway, 17th Floor, New York, New York 10007-1866, (212) 637-3184. Comments should reference the Vega Alta Public Supply Wells Superfund Site, CERCLA Docket No. 02-2005-2029. To request a copy of the proposed settlement agreement, please contact the individual identified below.

FOR FURTHER INFORMATION CONTACT: Marla E. Wieder, Assistant Regional Counsel, USEPA, 290 Broadway, New York, New York 10007-1866, (212) 637-3184.

Dated: August 18, 2005.
Kathleen Callahan,
Acting Regional Administrator, U.S. Environmental Protection Agency, Region II.

[FR Doc. 05-17189 Filed 8-26-05; 8:45 am]

BILLING CODE 6560-50-P